DEPARTMENT OF ENERGY

Federal Energy Regulatory Commission

[Project No. 1256-089]

Loup River Public Power District; Notice of Intent To Prepare an Environmental Assessment

On October 9, 2024, Loup River Public Power District (licensee) filed an application to amend its license for the Loup River Hydroelectric Project No. 1256. The project is located on the Loup River in Nance and Platte counties, Nebraska. The project does not occupy federal lands.

The licensee proposes to amend its minimum flow and operating requirements pursuant to Articles 404 and 405 of the license. On April 2, 2025, the Commission issued a public notice for the proposed amendment of license, accepted the application for filing, and solicited comments, motions to intervene, and protests. No comments were filed in response to the Commission's notice.

This notice identifies Commission staff's intention to prepare an environmental assessment (EA) under the National Environmental Policy Act (42 U.S.C. 4321 et seq) for the project.¹ Commission staff plans to issue an EA by November 17, 2025. Revisions to the schedule may be made as appropriate. The EA will be issued for a 30-day comment period. All comments filed on the EA will be reviewed by staff and considered in the Commission's final decision on the proceeding.

¹ The unique identification number for documents relating to this environmental review is EAXX-019-20-000-1753110756.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Diana Shannon at 202-502-6136 or diana.shannon@ferc.gov.

Dated: August 25, 2025.
Debbie-Anne A. Reese,
Secretary.

[FR Doc. 2025-16560 Filed 8-27-25; 8:45 am]

BILLING CODE 6717-01-P